DEPARTMENT OF COMMERCE

International Trade Administration

Agency Information Collection Activities; Submission to the Office of Management and Budget (OMB) for Review and Approval; Comment Request; Annual Report From Foreign-Trade Zones

AGENCY: International Trade Administration, Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 30, 2020.

ADDRESSES: Interested persons are invited to submit written comments by email to Christopher Kemp, Analyst, Office of Foreign-Trade Zones, Christopher.Kemp@trade.gov or PRAcomments@doc.gov. Please reference OMB Control Number 0625-0109 in the subject line of your comments. Do not submit Confidential Business Information or otherwise sensitive or protected information.

FOR FURTHER INFORMATION CONTACT: Requests for additional information or specific questions related to collection activities should be directed to Christopher Kemp, Analyst, Office of Foreign-Trade Zones, (202) 482-0862, Christopher.Kemp@trade.gov.

SUPPLEMENTARY INFORMATION:

I. Abstract

The Foreign-Trade Zone Annual Report is the vehicle by which Foreign-Trade Zone grantees report annually to the Foreign-Trade Zones Board, pursuant to the requirements of the Foreign-Trade Zones Act (19 U.S.C. 81(p)). The annual reports submitted by grantees are the only complete source of compiled information on FTZs. The data and information contained in the reports relates to international trade activity in FTZs. The reports are used by the Congress and the Department to determine the economic effect of the FTZ program. The reports are also used by the FTZ Board and other trade policy officials to determine whether zone activity is consistent with U.S. international trade policy, and whether it is in the public interest. The public uses the information regarding activities carried out in FTZs to evaluate their effect on industry sectors. The information contained in annual reports also helps zone grantees in their marketing efforts. This is a request for a renewal of a currently approved information collection.

II. Method of Collection

The Foreign-Trade Zone Annual Report is collected from zone grantees in a web-based, electronic format.

III. Data

OMB Control Number: 0625-0109.

Form Number(s): ITA 359P.

Type of Review: Regular submission, extension of a current information collection.

Affected Public: State, local, tribal governments, or not-for-profit institutions that have been granted foreign-trade zone authority.

Estimated Number of Respondents: 261.

Estimated Time per Response: 1 to 76 hours (depending on size and structure of Foreign-Trade Zone).

Estimated Total Annual Burden Hours: 5,979.

Estimated Total Annual Cost to Public: 0.

Respondent's Obligation: Mandatory.

Legal Authority: 19 U.S.C. 81(p).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-19169 Filed 8-28-20; 8:45 am]

BILLING CODE 3510-DS-P